DEPARTMENT OF AGRICULTURE

Grain Inspection, Packers and Stockyards Administration

[00-01-a]

Opportunity for Designation in the Ohio Valley (IN), Idaho (ID), Lewiston (ID), Utah, Minnesota, and Mississippi Areas, and Request for Comments on the Official Agencies Serving These Areas

AGENCY: Grain Inspection, Packers and Stockyards Administration (GIPSA).

ACTION: Notice.

SUMMARY: The designations of the official agencies listed below will end in October, November, and December 2000. GIPSA is asking persons interested in providing official services in the areas served by these agencies to submit an application for designation. GIPSA is also asking for comments on the services provided by these currently designated agencies:

Ohio Valley Grain Inspection, Inc. (Ohio Valley);

Idaho Grain Inspection Service, Inc. (Idaho);

Lewiston Grain Inspection Service, Inc. (Lewiston);

Utah Department of Agriculture (Utah);

Minnesota Department of Agriculture (Minnesota); and

Mississippi Department of Agriculture and Commerce (Mississippi).

DATES: Applications and comments must be postmarked or sent by telecopier (FAX) on or before March 30, 2000.

ADDRESSES: Applications and comments must be submitted to USDA, GIPSA, Janet M. Hart, Chief, Review Branch, Compliance Division, STOP 3604, Room 1647-S, 1400 Independence Avenue, SW, Washington, DC 20250-3604. Applications and comments may be submitted by FAX on 202-690-2755. If an application is submitted by FAX, GIPSA reserves the right to request an original application. All applications and comments will be made available for public inspection at this address located at 1400 Independence Avenue, SW, during regular business hours.

FOR FURTHER INFORMATION CONTACT: Janet M. Hart, at 202-720-8525.

SUPPLEMENTARY INFORMATION: This Action has been reviewed and determined not to be a rule or regulation as defined in Executive Order 12866 and Departmental Regulation 1512-1; therefore, the Executive Order and Departmental Regulation do not apply to this Action.

Section 7(f)(1) of the United States Grain Standards Act, as amended (Act), authorizes GIPSA's Administrator to designate a qualified applicant to provide official services in a specified area after determining that the applicant is better able than any other applicant to provide such official services.

Section 7(g)(1) of the Act provides that designations of official agencies shall end not later than triennially and may be renewed according to the criteria and procedures prescribed in Section 7(f) of the Act.

1. Current Designations Being Announced for Renewal

Official agency | Main office | Designation start | Designation end
Ohio Valley | Newburg, IN | 11/01/1997 | 10/31/2000
Idaho | Pocatello, ID | 12/01/1997 | 11/31/2000
Lewiston | Lewiston, ID | 12/01/1997 | 11/31/2000
Utah | Salt Lake City, UT | 12/01/1997 | 11/31/2000
Minnesota | St. Paul, MN | 01/01/1997 | 12/31/2000
Mississippi | Jackson, MS | 01/01/1997 | 12/31/2000

a. Pursuant to Section 7(f)(2) of the Act, the following geographic area, in the States of Indiana, Kentucky, and Tennessee, is assigned to Ohio Valley.

Daviess, Dubois, Gibson, Knox (except the area west of U.S. Route 41 (150) from Sullivan County south to U.S. Route 50), Pike, Posey, Vanderburgh, and Warrick Counties, Indiana.

Caldwell, Christian, Crittenden, Henderson, Hopkins (west of State Route 109 south of the Western Kentucky Parkway), Logan, Todd, Union, and Webster (west of Alternate U.S. Route 41 and State Route 814) Counties, Kentucky.

Cheatham, Davidson, and Robertson Counties, Tennessee.

b. Pursuant to Section 7(f)(2) of the Act, the following geographic area, in the State of Idaho, is assigned to Idaho.

The southern half of the State of Idaho up to the northern boundaries of Adams, Valley, and Lemhi Counties.

c. Pursuant to Section 7(f)(2) of the Act, the following geographic area, in the State of Idaho, is assigned to Lewiston.

The northern half of the State of Idaho down to the northern boundaries of Adams, Valley, and Lemhi Counties.

d. Pursuant to Section 7(f)(2) of the Act, the following geographic area, the entire State of Utah, is assigned to Utah.

e. Pursuant to Section 7(f)(2) of the Act, the following geographic area, the entire State of Minnesota, except those export port locations within the State, is assigned to Minnesota.

f. Pursuant to Section 7(f)(2) of the Act, the following geographic area, the entire State of Mississippi, except those export port locations within the State, is assigned to Mississippi.

g. Pursuant to Section 7(f)(2) of the Act, the following geographic area, in the State of Indiana, is assigned to Northeast Indiana.

Bounded on the North by the northern Lagrange and Steuben County lines;

Bounded on the East by the eastern Steuben, De Kalb, Allen, and Adams County lines;

Bounded on the South by the southern Adams and Wells County lines; and

Bounded on the West by the western Wells County line; the southern Huntington and Wabash County lines; the western Wabash County line north to State Route 114; State Route 114 northwest to State Route 19; State Route 19 north to Kosciusko County; the western and northern Kosciusko County lines; the western Noble and Lagrange County lines.

The following grain elevator, located outside of the above contiguous geographic area, is part of this geographic area assignment: E.M.P. Coop, Payne, Paulding County, Ohio (located inside Michigan Grain Inspection Services, Inc.'s, area).

2. Opportunity for Designation

Interested persons, including Ohio Valley, Idaho, Lewiston, Utah, Minnesota, and Mississippi, are hereby given the opportunity to apply for designation to provide official services in the geographic areas specified above under the provisions of Section 7(f) of the Act and section 800.196(d) of the regulations issued thereunder. Persons wishing to apply for designation should contact the Compliance Division at the address listed above for forms and information.

Designation Terms
Ohio Valley | 10/31/2000 to 09/30/2003.
Idaho, Lewiston, and Utah | 11/30/2000 to 09/30/2003.
Minnesota and Mississippi | 12/31/2000 to 09/30/2003.

3. Request for Comments

GIPSA also is publishing this notice to provide interested persons the opportunity to present comments on the Ohio Valley, Idaho, Lewiston, Utah, Minnesota and Mississippi. Commenters are encouraged to submit pertinent data concerning these official agencies including information on the timeliness, cost, quality, and scope of services provided. All comments must be submitted to the Compliance Division at the above address.

Applications, comments, and other available information will be considered in determining which applicant will be designated.

Authority: Pub. L. 94-582, 90 Stat. 2867, as amended (7 U.S.C. 71 et seq.).

Dated: February 4, 2000.
Neil E. Porter,
Director, Compliance Division.

[FR Doc. 00-4682 Filed 2-29-00; 8:45 am]

BILLING CODE 3410-EN-P